DEPARTMENT OF THE INTERIOR

National Park Service

[NPS-WASO-OIA-DTS-32490; PPWODIREI0-PIN00IO15.XI0000]

U.S. Nomination to the World Heritage List: Moravian Church Settlements (Historic Moravian Bethlehem District)

AGENCY: National Park Service, Interior.

ACTION: Notice.

SUMMARY: This notice announces the decision to request that the Historic Moravian Bethlehem District in Bethlehem, Pennsylvania, contribute to a serial transnational (multi-country) draft nomination of Moravian Church Settlements for inclusion on the United Nations Educational, Scientific and Cultural Organization (UNESCO) World Heritage List. The decision is the result of consultation with the Federal Interagency Panel for World Heritage and the review of public comments submitted in response to an earlier notice. This notice complies with applicable World Heritage Program regulations.

ADDRESSES: To request paper copies of documents discussed in this notice, contact April Brooks, Office of International Affairs, National Park Service, 1849 C St. NW, Room 2415, Washington, DC 20240 (202) 354-1808, or sending electronic mail (Email) to: april_brooks@nps.gov.

FOR FURTHER INFORMATION CONTACT: Jonathan Putnam, 202-354-1809. Information on the U.S. World Heritage program can be found at https://www.nps.gov/subjects/internationalcooperation/worldheritage.htm.

SUPPLEMENTARY INFORMATION:

Background

The World Heritage List is an international list of cultural and natural properties nominated by the signatories to the World Heritage Convention (1972). The United States was the prime architect of the Convention, an international treaty for preservation of natural and cultural heritage sites of global significance. The World Heritage Committee, composed of representatives of 21 nations periodically elected as the governing body of the World Heritage Convention, makes the final decisions on which nominations to accept on the World Heritage List. There are 1,154 sites in 167 countries. Currently there are 24 World Heritage Sites in the United States. U.S. participation and the roles of the Department of the Interior (Department) and the National Park Service (NPS) are authorized by Title IV of the Historic Preservation Act Amendments of 1980 and conducted in accordance with 36 CFR part 73—World Heritage Convention. Each State Party to the Convention maintains a Tentative List, periodically updated, of properties that are considered suitable for nomination. Only properties on the Tentative List are eligible to officially prepare nominations that the Department may consider for submission. The Historic Moravian Bethlehem District was included on the U.S. Tentative List on April 11, 2017. Neither inclusion in the list nor inscription as a World Heritage Site imposes legal restrictions on owners or neighbors of sites, nor does it give the United Nations any management authority or ownership rights in U.S. World Heritage Sites, which continue to be subject only to U.S. law.

The Department's Assistant Secretary for Fish and Wildlife and Parks (Assistant Secretary) initiates the process to nominate U.S. sites to the World Heritage List by publishing a notice in the Federal Register seeking public comment regarding which properties on the U.S. Tentative List should be nominated next by the United States. The first notice (81 FR 89143, as required by 36 CFR 73.7(c)) was published on January 11, 2021. Following the publication of the first notice, the Assistant Secretary convened the Federal Interagency Panel to review the public comments submitted and make a recommendation. The Federal Interagency Panel for World Heritage is chaired by the Assistant Secretary and assists the Department in implementing the Convention by making recommendations on U.S. World Heritage policy, procedures, and nominations. If the Panel recommends that a property be nominated and the recommendation is accepted by the Assistant Secretary, a second notice is issued. This is the second notice as required by 36 CFR 73.7(f) on the proposed nomination.

Decision To Request the Preparation of a New U.S. World Heritage Nomination

The Department received more than 80 comments in response to the first notice, including 63 concerning the Historic Moravian Bethlehem District, all of which were expressions of support from the property owners, elected representatives at local, State, and Federal levels, individuals, institutions, and museums. There were no comments against nominating any property. Most of the other comments were in support of or discussions of other properties, including Okefenokee National Wildlife Refuge in Georgia.

The Department considered all comments received as well as the advice of the Federal Interagency Panel for World Heritage, which met on June 15, 2021. The Panel agreed by consensus to recommend authorization at this time for the Historic Moravian Bethlehem District to contribute as a component to a serial transnational nomination of Moravian Church Settlements.

The Department has selected the Historic Moravian Bethlehem District as a proposed U.S. component of a serial transnational nomination of Moravian Church Settlements to the World Heritage List. With the assistance of the Department, including the completion of appropriate consultation with Native American Tribal governments, the owners of property in this district are encouraged to contribute to a complete nomination, in coordination with other participating countries, in accordance with 36 CFR part 73 and the nomination format required by the World Heritage Committee.

The Historic Moravian District in Bethlehem, Pennsylvania, a National Historic Landmark, is a mid- and late-18th century planned community created in conjunction with the larger Moravian congregation in Herrnhut, Germany. Bethlehem, Pennsylvania, became the religious and administrative center of Moravian activities in North America. It consists of religious, domestic, and industrial components, reflecting Moravian principles of urban planning and the full scope of Moravian community life in a North American context. The Moravian settlement of Christiansfeld in Denmark was inscribed on the World Heritage List in 2015. The government of the German state of Saxony has proposed including the Moravian settlement of Herrnhut along with Bethlehem, Pennsylvania, as a “serial transnational” group nomination to extend the Danish listing, possibly including Moravian settlements in other countries as well.

Next Steps

A draft World Heritage nomination for Moravian Church Settlements that includes the Historic Moravian Bethlehem District may now be prepared, in consultation with the National Park Service's Office of International Affairs. The NPS will coordinate the review and evaluation of the Bethlehem, Pennsylvania, portion of the draft nomination to ensure it meets the requirements of 36 CFR 73, and will cooperate with the governments of other countries participating in this nomination to complete and submit it to the World Heritage Committee. Following NPS review of a complete draft nomination, the Department may submit it to the World Heritage Centre for technical review by September 30 of any year. The Centre will then provide comments by November 15 of that year. The Federal Interagency Panel for World Heritage will review a draft nomination following receipt of the Centre's comments and recommend to the Department whether the nomination should be formally submitted for consideration by the World Heritage Committee. Submittal to the World Heritage Centre by the Department through the Department of State can be made by February 1 of any year; the World Heritage Committee would then consider the nomination at its annual meeting in the summer of the following year, after an evaluation by an official Advisory Body to the Committee.

Authority: 54 U.S.C. 307101; 36 CFR part 73.

Shannon A. Estenoz,
Assistant Secretary for Fish and Wildlife and Parks.

[FR Doc. 2022-01952 Filed 1-31-22; 8:45 am]

BILLING CODE 4312-52-P